DEPARTMENT OF HOUSING AND URBAN DEVELOPMENT

[Docket No. FR-4851-FA-02]

Announcement of Funding Award—FY 2003 Lead Hazard Reduction Demonstration Grant Program

AGENCY: Office of the Secretary—Office of Healthy Homes and Lead Hazard Control, HUD.

ACTION: Announcement of funding awards.

SUMMARY: In accordance with section 102(a)(4)(C) of the Department of Housing and Urban Development Reform Act of 1989, this announcement notifies the public of additional funding decisions made by the Department in a competition for funding under the Lead Hazard Reduction Demonstration Grant Program Notice of Funding Availability (NOFA). The purpose of the Lead Hazard Reduction Demonstration Grant Program is to assist areas with the highest lead paint abatement needs in undertaking programs for abatement, inspections, risk assessments, temporary relocations, and interim control of lead-based paint hazards in eligible privately-owned, single-family housing units, and multi-family buildings that are occupied by low-income families. This announcement contains the name, address of the award recipient and the amount of award.

FOR FURTHER INFORMATION CONTACT: Matthew E. Ammon, Department of Housing and Urban Development, Office of Healthy Homes and Lead Hazard Control, Room P3206, 451 Seventh Street SW., Washington, DC 20410, telephone (202) 755-1785 ext. 158. Hearing- and speech-impaired persons may access the number above via TTY by calling the toll free Federal Information Relay Service at 1-800-877-8339.

SUPPLEMENTARY INFORMATION: HUD's authority for making funding available under the Lead Hazard Reduction Demonstration Grant Program NOFA is the Consolidated Appropriations Resolution of 2003, Pub. L. 108-7, approved February 20, 2003.

These awards were the result of a competition announced in a Federal Register NOFA published on July 1, 2003 (68 FR 39400). The purpose of the competition was to award grant funding of approximately $49,675,000 for grants and cooperative agreements for the Lead Hazard Reduction Demonstration Grant Program. Applications were scored and selected on the basis of selection criteria contained in that NOFA.

A total of $49,675,000 was awarded to 20 grantees. In accordance with section 102(a)(4)(C) of the Department of Housing and Urban Development Reform Act of 1989 (103 Stat. 1987, 42 U.S.C. 3545), the Department is publishing the names, addresses, and amounts of this awards as follows:

Awardee | Address | Award amount
City of Cleveland | 1925 St. Clair Avenue, Cleveland, OH 44114 | $2,713,421
City of Baltimore | 210 Guilford Avenue—2nd Floor, Baltimore, MD 21202 | 2,600,000
City of Rochester | 30 Church Street, Room 028B, Rochester, NY 14614 | 2,568,248
Westchester County | 148 Martine Avenue, Room 414, White Plains, NY 10601 | 2,000,000
City of Boston | 38 Winthrop Street, Hyde Park, MA 02136 | 2,600,000
City of Memphis | 701 North Main Street, Memphis, TN 38107 | 2,599,715
City of St. Louis | 1015 Locust Street, Suite 1200, St. Louis, MO 63101 | 2,600,000
State of Connecticut | 25 Sigourney Street, Hartford, CT 06106 | 2,600,000
City of New York | 100 Gold Street, Room 9-08, New York, NY 10038 | 2,600,000
City of Philadelphia | 2100 West Girard Avenue, PNH, Bldg. 3, Philadelphia, PA 19130-1400 | 2,599,998
City of Milwaukee | 841 N. Broadway, Milwaukee, WI 53202 | 2,600,000
District of Columbia | 801 North Capitol Street, NE, Room 320 Washington, DC 20002 | 2,000,000
City of Los Angeles | 1200 W. Olympic, 9th Floor, Los Angeles, CA 90017 | 2,593,618
San Bernadino County | 351 North Mountain View Avenue, Room 305 San Bernardino, CA 92415 | 2,600,000
Hennepin County | 417 North 5th Street, Room 320, Hennepin, MN 55401-1362 | 2,000,000
Mahoning County | 21 West Boardman Street, Youngstown, OH 44503 | $2,600,000
City of Grand Rapids | 300 Monroe Avenue, NW, Grand Rapids, MI 49503 | 2,000,000
City & County of SF | 25 Van Ness Avenue, Suite 600, San Francisco, CA 94012 | 2,600,000
City of Chicago | 333 South State Street, Chicago, IL 60604 | 2,600,000
City of Syracuse | 201 East Washington Street, Syracuse, NY 13202 | 2,600,000

(The Catalog of Federal Domestic Assistance number for this program is 14.905.)
Dated: November 4, 2003.
Joseph F. Smith,
Deputy Director, Office of Healthy Homes and Lead Hazard Control.

[FR Doc. 03-29327 Filed 11-24-03; 8:45 am]

BILLING CODE 4210-70-P